DEPARTMENT OF COMMERCE

National Oceanic and Atmospheric Administration

50 CFR Part 635

[I.D. 051603C]

RIN 0648-AQ65

Atlantic Highly Migratory Species; Amendments to the Fishery Management Plan for Atlantic Tunas, Swordfish, and Sharks and the Fishery Management Plan for Atlantic Billfish

AGENCY: National Marine Fisheries Service (NMFS), National Oceanic and Atmospheric Administration (NOAA), Commerce.

ACTION: Cancellation of a public hearing.

SUMMARY: Due to the mandatory evacuation of the Florida Keys for Hurricane Rita, NMFS is cancelling a public hearing on the draft Consolidated Highly Migratory Species (HMS) Fishery Management Plan (FMP) and proposed rule that was scheduled for September 21, 2005, in Key West, FL. NMFS intends to reschedule the Key West public hearing at a later date. The draft Consolidated HMS FMP and the proposed rule describe a range of management measures that could impact fishermen and dealers for all HMS fisheries.

DATES: The hearing scheduled for September 21, 2005, in Key West, FL, has been cancelled and will be rescheduled at a later date.

ADDRESSES: The location of the rescheduled hearing will be announced at a later date and published in the Federal Register.

FOR FURTHER INFORMATION CONTACT: Heather Stirratt or Karyl Brewster-Geisz at (301) 713-2347.

SUPPLEMENTARY INFORMATION: The Atlantic HMS fisheries are managed under the dual authority of the Magnuson-Stevens Fishery Conservation and Management Act (Magnuson-Stevens Act) and the Atlantic Tunas Convention Act (ATCA). The FMP for Atlantic Tunas, Swordfish, and Sharks, finalized in 1999, and the FMP for Atlantic Billfish, finalized in 1988, are implemented by regulations at 50 CFR part 635.

On August 19, 2005 (70 FR 48804), NMFS published a proposed rule and draft Consolidated HMS FMP, and scheduled 24 public hearings throughout September and October 2005 to receive comments from fishery participants and other members of the public regarding the proposed rule and draft Consolidated HMS FMP. On September 7, 2005 (70 FR 53146), NMFS announced two cancellations due to Hurricane Katrina and one meeting location change. Due to the mandatory evacuation of the Florida Keys for Hurricane Rita, NMFS is cancelling a third public hearing that was scheduled for September 21, 2005, in Key West, FL. NMFS intends to reschedule the Key West public hearing at a later date, and may extend the comment period, if necessary, to ensure adequate opportunities for public comment by constituents. Notification of the new date and location would be published in the Federal Register. The schedule for the other public hearings remains unchanged.

Special Accommodations

These meetings are physically accessible to people with disabilities. Requests for sign language interpretation or other auxiliary aids should be directed to Heather Stirratt, (301) 713-2347, at least 7 days prior to the hearing in question.

Authority: 5 U.S.C. 561 and 16 U.S.C. 1801 et seq.

Dated: September 19, 2005.
Alan Risenhoover,
Acting Director, Office of Sustainable Fisheries, National Marine Fisheries Service.

[FR Doc. 05-19048 Filed 9-20-05; 1:12 pm]

BILLING CODE 3510-22-S